OVERSEAS PRIVATE INVESTMENT CORPORATION

Sunshine Act; September 9, 2004, Board of Directors Meeting

Time and Date: Thursday, September 9, 2004, 10 a.m. (Open portion), 10:15 a.m. (Closed portion).

Place: Offices of the Corporation, Twelfth Floor Board Room, 1100 New York Avenue, NW., Washington, DC.

Status: Meeting open to the Public from 10 a.m. to 10:15 a.m. Closed portion will commence at 10:15 a.m. (approx.).

Matters to be Considered: 1. President's Report.

2. Approval of July 29, 2004 minutes (open portion).

Further Matters to be Considered: (Closed to the Public 10:15 a.m.).

1. Finance Project—Africa.

2. Finance Project—Africa.

3. Finance Project—Africa.

4. Approval of July 29, 2004 minutes (closed portion).

6. Pending Major Projects.

7. Reports.

Contact Person For Information: Information on the meeting may be obtained from Connie M. Downs at (202) 336-8438.

Dated: August 24, 2004.
Connie M. Downs,
Corporate Secretary, Overseas Private Investment Corporation.

[FR Doc. 04-19594 Filed 8-24-04; 10:52 am]

BILLING CODE 3210-01-M